ENVIRONMENTAL PROTECTION AGENCY

[EPA-HQ-OAR-2009-0299; 2060-0104; FRL-9904-41-OAR]

Proposed Information Collection Request; Comment Request; Motor Vehicle Emissions: Revisions to Certification of Alternative Fuels Conversions

AGENCY: Environmental Protection Agency (EPA).

ACTION: Notice.

SUMMARY: The Environmental Protection Agency is planning to submit an information collection request (ICR), “Motor Vehicle Emissions: Revisions to Certification of Alternative Fuels Conversions” (EPA ICR No. 0783.64, OMB Control No. 2060-0104) to the Office of Management and Budget (OMB) for review and approval in accordance with the Paperwork Reduction Act (44 U.S.C. 3501 et seq.). Before doing so, EPA is soliciting public comments on specific aspects of the proposed information collection as described below. This is a proposed extension of the ICR, which is currently approved through May 31, 2014. An Agency may not conduct or sponsor and a person is not required to respond to a collection of information unless it displays a currently valid OMB control number.

DATES: Comments must be submitted on or before February 18, 2014.

ADDRESSES: Submit your comments, referencing Docket ID No. EPA-HQ-OAR-2009-0299 online using www.regulations.gov (our preferred method), or by mail to: EPA Docket Center, Environmental Protection Agency, Mail Code 28221T, 1200 Pennsylvania Ave. NW., Washington, DC 20460.

EPA's policy is that all comments received will be included in the public docket without change including any personal information provided, unless the comment includes profanity, threats, information claimed to be Confidential Business Information (CBI) or other information whose disclosure is restricted by statute.

FOR FURTHER INFORMATION CONTACT: Holly Pugliese, Compliance Division, U.S. Environmental Protection Agency, 2000 Traverwood Drive, Ann Arbor, Michigan 48105. Telephone: (734) 214- 4288. Email Address: pugliese.holly@epa.gov.

SUPPLEMENTARY INFORMATION: Supporting documents which explain in detail the information that the EPA will be collecting are available in the public docket for this ICR. The docket can be viewed online at www.regulations.gov or in person at the EPA Docket Center, WJC West, Room 3334, 1301 Constitution Ave. NW., Washington, DC. The telephone number for the Docket Center is 202-566-1744. For additional information about EPA's public docket, visit http://www.epa.gov/dockets.

Pursuant to section 3506(c)(2)(A) of the PRA, EPA is soliciting comments and information to enable it to: (i) Evaluate whether the proposed collection of information is necessary for the proper performance of the functions of the Agency, including whether the information will have practical utility; (ii) evaluate the accuracy of the Agency's estimate of the burden of the proposed collection of information, including the validity of the methodology and assumptions used; (iii) enhance the quality, utility, and clarity of the information to be collected; and (iv) minimize the burden of the collection of information on those who are to respond, including through the use of appropriate automated electronic, mechanical, or other technological collection techniques or other forms of information technology, e.g., permitting electronic submission of responses. EPA will consider the comments received and amend the ICR as appropriate. The final ICR package will then be submitted to OMB for review and approval. At that time, EPA will issue another Federal Register notice to announce the submission of the ICR to OMB and the opportunity to submit additional comments to OMB.

Abstract: With this ICR renewal, EPA is seeking permission to continue recordkeeping and reporting requirements for manufacturers to submit information to EPA to ensure compliance with the provisions of EPA's Clean Alternative Fuel Vehicle and Engine Conversions Final Rule which was issued on April 8, 2011 (76 FR 19830). This includes a variety of requirements for alternative fuel vehicle/engine converters who seek an exemption from the anti-tampering prohibition in section 203(a)(3) of the Clean Air Act. Under Title II of the Clean Air Act (42 U.S.C. 7521 et seq.)

Form Numbers: EPA Form Number 5800-257 and EPA Form Number 5800-258.

Respondents/affected entities: This action will affect companies and persons that manufacture, assemble, sell, import, or install alternative fuel conversions for light-duty vehicles, light-duty trucks, medium-duty passenger vehicles.

Respondent's obligation to respond: Required to obtain or retain a benefit.

Estimated number of respondents: 25 (total).

Frequency of response: On occasion as needed to obtain certification.

Total estimated burden: 39,193 hours (per year). Burden is defined at 5 CFR 1320.03(b).

Total estimated cost: $2,689,777 (per year), includes $363,059 annualized capital or operation & maintenance costs.

Changes in estimates: There is an increase of 20,657 hours in the total estimated respondent burden compared with the ICR currently approved by OMB. This increase is due primarily to the increase in the number of manufacturers and vehicle and engine test groups that are participating in the program.

Dated: December 13, 2013.
Byron Bunker,
Director, Compliance Division.

[FR Doc. 2013-30427 Filed 12-19-13; 8:45 am]

BILLING CODE 6560-50-P